DEPARTMENT OF DEFENSE

Office of the Secretary

[Docket ID: DoD-2022-OS-0113]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by October 15, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: USMC Pre-Command Sexual Assault Prevention & Response and Integrated Prevention Training Evaluation; OMB Control Number 0704-0644.

Type of Request: New.

Number of Respondents: 420.

Responses per Respondent: 2.

Annual Responses: 840.

Average Burden per Response: 15 minutes.

Annual Burden Hours: 210 hours.

Needs and Uses: This data collection is in response to the Independent Review Commission on Sexual Assault in the Military (IRC-SAM) recommendations (2.1c, 2.4, 3.2, & 3.6). It addresses the problem of sexual assault (SA) in the military and the need for a rigorous evaluation of the USMC Pre-Command Sexual Assault Prevention and Response—Integrated Prevention (SAPR—IP) Training. SAPR—IP is an existing program implemented across the USMC for all slated Commanders and Sergeants Majors. The proposed program evaluation and data collection will assess the impact of the revised training program to create safe, stable, and supportive command environments free from sexual assault.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: September 4, 2024.
Aaron T. Siegel,
Alternate OSD Federal Register Liaison Officer, Department of Defense.

[FR Doc. 2024-20654 Filed 9-11-24; 8:45 am]

BILLING CODE 6001-FR-P